UNIFIED CARRIER REGISTRATION PLAN

Sunshine Act Meetings

TIME AND DATE: December 3, 2025, 10:00 a.m. to 1:00 p.m., MST.

PLACE: This meeting will take place at the Embassy Suites by Hilton Scottsdale Resort, 5001 North Scottsdale Road, Scottsdale, Arizona 85250. The meeting will also be accessible via conference call and via Zoom Meeting and Screenshare. Any interested person may call (i) 1-929-205-6099 (US Toll) or 1-669-900-6833 (US Toll), Meeting ID: 981 6246 4632, to listen and participate in this meeting. The website to participate via Zoom Meeting and Screenshare is https://kellen.zoom.us/meeting/register/AtXS42DlRJCgZdLzeP3LMg.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda

IV. Approval of Minutes of the October 30, 2025, UCR Board Meeting—UCR Board Chair

For Discussion and Possible Board Action

Draft Minutes from the October 30, 2025, UCR Board meeting will be reviewed. The Board will consider action to approve.

V. Report of FMCSA—FMCSA Representative

The Federal Motor Carrier Safety Administration (FMCSA) will provide a report on any relevant agency activity.

VI. Presentation of Proposed Contract with DSL Transportation Services, Inc.,—UCR Board Chair and Executive Director

For Discussion and Possible Board Action

The UCR Board Chair and Executive Director will present a proposed contract between the UCR Plan and DSL Transportation Services, Inc., with a 1-year term for the Board's consideration. The Board may take action to approve a contract with DSL Transportation Services, Inc., under the terms and conditions discussed and approved by the Board.

VII. Subcommittee Reports

Audit Subcommittee—UCR Audit Subcommittee

No report.

Dispute Resolution Subcommittee—UCR Dispute Resolution Subcommittee Chair

No report.

Education and Training Subcommittee—UCR Education and Training Subcommittee Chair

The UCR Education and Training Subcommittee Chair will provide an update on key projects and initiatives, including the ongoing development of the learning management program and training modules, awareness and engagement efforts for various stakeholders, and the optimization of the website and newsletter.

Enforcement Subcommittee—UCR Enforcement Subcommittee Chair

The UCR Enforcement Subcommittee Chair will provide an update on current and planned initiatives, including efforts to enhance UCR enforcement efficiency, and recognition of states and inspectors.

Finance Subcommittee—UCR Finance Subcommittee Chair and UCR Depository Manager

A. 2024 External Financial Audit Update—UCR Finance Subcommittee Chair and UCR Depository Manager

The UCR Finance Subcommittee Chair and UCR Depository Manager will provide an update on the UCR Plan's 2024 External Financial Audit.

B. Management Report—UCR Finance Subcommittee Chair and UCR Depository Manager

The UCR Finance Subcommittee Chair and UCR Depository Manager will provide an update on UCR finances and related topics.

Industry Advisory Subcommittee—UCR Industry Advisory Subcommittee Chair

No report.

VIII. Contractor Reports—UCR Board Chair

UCR Executive Director Update

The UCR Executive Director will provide a report covering his recent activity for the UCR Plan.

UCR Administrator Update (Kellen)

The UCR Chief of Staff will provide a management update covering any additional activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

IX. Chief Legal Officer Report—UCR Chief Legal Officer

The UCR Chief Legal Officer will provide a report covering the status of several legal issues involving the UCR Plan.

X. Other Business—UCR Board Chair

The UCR Board Chair will call for any other business, old or new, from the floor.

XI. Adjournment—UCR Board Chair

The UCR Board Chair will adjourn the meeting.

The agenda will be available no later than 5:00 p.m. Eastern daylight time, November 21, 2025, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-21497 Filed 11-25-25; 4:15 pm]

BILLING CODE 4910-YL-P